FEDERAL TRADE COMMISSION

16 CFR Part 310

RIN 3084-AA98

Telemarketing Sales Rule Fees; Correction

AGENCY: Federal Trade Commission.

ACTION: Notice; correction.

SUMMARY: The Federal Trade Commission (“Commission”) published a document in the Federal Register of August 27, 2025, amending its Telemarketing Sales Rule (“TSR”) by updating the fees charged to entities accessing the National Do Not Call Registry (“Registry”) as required by the Do-Not-Call Registry Fee Extension Act of 2007. Shortly after publication, Commission staff learned the document contained an incorrect date. The Commission issues this correction to reflect the corrected date. The revised fees will become effective October 1, 2025, not October 1, 2024.

DATES: The correction takes effect on September 5, 2025.

FOR FURTHER INFORMATION CONTACT: Ami Joy Dziekan, (202) 326-2648, Bureau of Consumer Protection, Federal Trade Commission, 600 Pennsylvania Avenue NW, Washington, DC 20580.

SUPPLEMENTARY INFORMATION: The rule document submitted by Commission staff for publication contained a typographical error; specifically, the date for when the revised fees will become effective was off by one year in the DATES.

Correction

In final rule FR Doc. 2025-16430 appearing at 90 FR 41777 in the Federal Register of Wednesday, August 27, 2025, make the following correction. On page 41777, in the DATES section, the date of “October 1, 2024” is corrected to read “October 1, 2025”.

Dated: September 3, 2025.
Joel Christie,
Acting Secretary.

[FR Doc. 2025-17091 Filed 9-4-25; 8:45 am]

BILLING CODE 6750-01-P